DEPARTMENT OF THE INTERIOR

Fish and Wildlife Service

[FWS-R4-ES-2020-N010; FXES11130400000EA-123-FF04EF1000]

Receipt of Incidental Take Permit Application and Proposed Habitat Conservation Plan for the Alabama Beach Mouse, City of Orange Beach, Baldwin County, AL; Categorical Exclusion

AGENCY: Fish and Wildlife Service, Interior.

ACTION: Notice of availability; request for comment and information.

SUMMARY: We, the Fish and Wildlife Service (Service), announce receipt of an application from Brett Real Estate Robinson Development Company, Inc. (applicant) for an incidental take permit (ITP) under the Endangered Species Act. The applicant requests the ITP to take the federally listed Alabama beach mouse incidental to construction in the City of Orange Beach, Baldwin County, Alabama. We request public comment on the application, which includes the applicant's proposed habitat conservation plan (HCP) and the Service's preliminary determination that this HCP qualifies as “low-effect,” categorically excluded, under the National Environmental Policy Act. To make this determination, we used our environmental action statement and low-effect screening form, both of which are also available for public review.

DATES: We must receive your written comments on or before February 18, 2020

ADDRESSES:

Obtaining Documents: Documents are available for public inspection by appointment during regular business hours at either of the following locations:

• Atlanta Regional Office, Ecological Services, U.S. Fish and Wildlife Service, 1875 Century Boulevard, Atlanta, GA 30345.

• Alabama Ecological Services Office, U.S. Fish and Wildlife Service, 1208 Main Street, Daphne, Alabama.

Submitting Comments: If you wish to submit comments on any of the documents, you may do so by either of the following methods. Please reference TE48280D-0 in all comments.

• U.S. mail: You may mail comments to the Fish and Wildlife Service's Atlanta Regional Office.

• Hand-delivery: You may hand-deliver comments to the Fish and Wildlife Service's Atlanta or Alabama Office.

• Email: You may email comments to david_dell@fws.gov. Please include your name and email address in your email. If you do not receive an email from us confirming that we received your message, contact us directly at either telephone number in FOR FURTHER INFORMATION CONTACT.

FOR FURTHER INFORMATION CONTACT: David Dell, Regional HCP and Safe Harbors Coordinator, at the Atlanta Regional Office (see ADDRESSES) or by telephone at 404-679-7313, or William Lynn, Project Manager, at the Alabama Ecological Services Office (see ADDRESSES) or by telephone at 251-441-5868. If you use a telecommunications device for the deaf (TDD), please call the Federal Relay Service at 800-877-8339.

SUPPLEMENTARY INFORMATION: We, the Fish and Wildlife Service, announce receipt of an application from Brett Real Estate Robinson Development Company, Inc. (applicant) for an incidental take permit (ITP) under the Endangered Species Act of 1973, as amended (ESA; 16 U.S.C. 1531 et seq.). The applicant requests to take the federally listed Alabama beach mouse (Peromyscus polionotus ammobates) incidental to the construction of two condominium towers and amenities (project) in the City of Orange Beach, Baldwin County, Alabama. We request public comment on the application, which includes the applicant's proposed habitat conservation plan (HCP) and the Service's preliminary determination that this HCP qualifies as “low-effect,” categorically excluded, under the National Environmental Policy Act (NEPA; 42 U.S.C. 4231 et seq.). To make this determination, we used our environmental action statement and low-effect screening form, both of which are also available for public review.

Project

The applicant requests a 50-year ITP to take Alabama beach mouse (ABM) incidental to the conversion of approximately 0.45 acres (ac) of the species' occupied habitat for the construction of two condominium towers (192 units) and amenities on a 5.80-ac parcel in Baldwin County, Alabama. A condominium was previously located on the parcel but was destroyed in 2004 by Hurricane Ivan. The parcel was left fallow, and 1.90 ac of ABM habitat re-formed on the site. The applicant proposes to implement standard minimization and mitigation measures to mitigate take of the species. The measures include installing and utilizing sea turtle friendly lighting and tinted windows, landscaping with native vegetation, enhancing the frontal dune area, and constructing driveways with materials that will not disperse in a storm surge. The applicant also will implement refuse control measures during construction and require that future residents continue such implementation. Another measure is restoration of ABM habitat after tropical storms. Free roaming cats and the use of exterior rodenticide would be prohibited within the development. There also will be monitoring of the on-site ABM population via fall and spring trapping surveys (twice a year) over a period of 5 years. Condominium owners would be required to pay an annual fee of $201 per unit over the 50-year term of the ITP. The City of Orange Beach set up a mitigation fund in which fees would be held and used for habitat acquisition, predator control, and/or improvement of Alabama beach mouse habitat elsewhere within the City of Orange Beach limits.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicant's project, including land clearing, infrastructure building, landscaping, and the proposed minimization and mitigation measures, would individually and cumulatively have a minor or negligible effect on the Alabama beach mouse and the environment. Therefore, we have preliminarily determined that the ITP for this project would qualify for categorical exclusion and that the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonably foreseeable similarly situated projects, would not result in significant cumulative effects to environmental values or resources over time.

Next Steps

The Service will evaluate the application and comments to determine whether to issue the requested permit. We will also conduct an intra-Service consultation pursuant to section 7 of the ESA to evaluate the effects of the proposed take. After considering the preceding findings, we will determine whether the permit issuance criteria of section 10(a)(l)(B) of the ESA have been met. If met, the Service will issue ITP number TE48280D-0 to Brett Real Estate Robinson Development Company, Inc.

Authority

The Service provides this notice under section 10(c) (16 U.S.C. 1539(c)) of the ESA and NEPA regulation 40 CFR 1506.6.

William Pearson,
Field Supervisor, Alabama Ecological Services Field Office.

[FR Doc. 2020-00672 Filed 1-16-20; 8:45 am]

BILLING CODE 4333-15-P